ENVIRONMENTAL PROTECTION AGENCY

[FRL-8182-7]

Public Workshop To Consider a Report Entitled “Review of the Process for Setting National Ambient Air Quality Standards” and Related Documents

AGENCY: Environmental Protection Agency (EPA).

ACTION: Announcement of public workshop.

SUMMARY: The EPA is announcing a public workshop to be held to elicit public input and discussion on the process the Agency uses to conduct periodic reviews of national ambient air quality standards (NAAQS), as discussed in a recent report prepared by an Agency workgroup entitled “Review of the Process for Setting National Ambient Air Quality Standards.” This workshop is not intended to cover issues related to the ongoing review of any specific NAAQS.

Dated: The public workshop will be held the afternoon of June 27, 2006. Please refer to SUPPLEMENTARY INFORMATION below for additional information on the workshop.

ADDRESSES: The workshop will be held at the following location: U.S. Environmental Protection Agency, 109 T. W. Alexander Drive, Auditorium C111A, Research Triangle Park, North Carolina 27709.

Written comments on the NAAQS review process may also be submitted to EPA electronically, by mail, by facsimile, or through hand delivery/courier. Written comments should be sent to Ms. Lydia Wegman, (C504-02), U.S. EPA, Office of Air Quality Planning and Standards, Health and Environmental Impacts Division, Research Triangle Park, NC 27711, e-mail at wegman.lydia@epa.gov; or Dr. Kevin Teichman, U.S. EPA, Office of Research and Development, Office of Science Policy (8104R), 1200 Pennsylvania Avenue, NW., Washington, DC 20460, e-mail at teichman.kevin@epa.gov.

Relevant documents (including the workgroup report, “Review of the Process for Setting National Ambient Air Quality Standards,” prepared by EPA's NAAQS Process Review Workgroup, March 2006, and the associated Executive Summary, Attachments and Transmittal Memorandum) can be obtained from EPA's Web site at http://www.epa.gov/ttn/naaqs/.

FOR FURTHER INFORMATION CONTACT: If you would like to speak at the public workshop or have questions concerning the public workshop, please contact Ms. Tricia Crabtree at the address given below under SUPPLEMENTARY INFORMATION no later than June 20, 2006. Questions concerning the “Review of the Process for Setting National Ambient Air Quality Standards” report should be addressed to Mr. Robert Fegley, U.S. EPA, Office of Research and Development, Office of Science Policy (8104R), 1200 Pennsylvania Avenue, NW., Washington, DC 20460, telephone number (202) 564-6786, e-mail at fegley.robert@epa.gov.

SUPPLEMENTARY INFORMATION: In the workgroup report cited above, EPA staff responded to a request from Deputy Administrator Marcus Peacock to examine the process the Agency uses to periodically review national ambient air quality standards (NAAQS), as required by the Clean Air Act. This review of the NAAQS process was aimed at examining whether and, if so, how the process can be further strengthened and at identifying ways of streamlining the process so that EPA can achieve more timely NAAQS reviews. The recommendations in the workgroup report were endorsed by Mr. William Wehrum (Acting Assistant Administrator for Air and Radiation) and Dr. George Gray (Assistant Administrator for Research and Development) in a memorandum transmitting the workgroup report and their additional recommendations to Deputy Administrator Peacock on April 3, 2006.

With the support of the Deputy Administrator, EPA is seeking additional input from the public and from the Clean Air Scientific Advisory Committee (CASAC), that provides advice to the Administrator on NAAQS-related matters, on various components of these recommendations, even as the Agency is now taking actions to begin implementing a number of basic structural workgroup recommendations in upcoming NAAQS review activities. The public workshop will provide interested parties the opportunity to present their views concerning issues related to the Agency's NAAQS review process, as well as to engage in a dialogue with the Agency on such issues. To help inform and focus public comment and discussion at the workshop, the Agency has prepared background information and discussion questions that are presented in an appendix to this notice.

Please note that this workshop is not intended to cover issues related to any specific criteria air pollutant or NAAQS. Written comments and supporting information submitted to the Agency by June 23, 2006 will be made available by the Agency to attendees at the workshop.

The public workshop will be held in Research Triangle Park, North Carolina. It will begin at 1 p.m. Eastern Daylight Time and continue until 5 p.m. If you would like to give a presentation at the workshop, please notify Ms. Tricia Crabtree, (C504-02), U.S. Environmental Protection Agency, Research Triangle Park, NC 27711, crabtree.tricia@epa.gov, (919) 541-5688, by June 20, 2006. She will arrange a time slot for you to speak.

The time allotted for each oral presentation may be limited depending on the number of individuals who wish to speak. By June 23, 2006, EPA will contact individuals who have requested an opportunity to make a presentation at the workshop to inform them how much time they will be allotted. All presenters will be allotted an equivalent amount of time on the agenda. We will not be providing equipment for presenters to show overhead slides or make computerized slide presentations unless we receive special requests in advance. Presenters should notify Ms. Tricia Crabtree if they will need specific equipment no later than June 23, 2006. The EPA encourages presenters to provide written versions of their comments either electronically on computer disk or CD-ROM or in paper copy. The workshop agenda, including the list of speakers, will be posted on EPA's Web page at http://www.epa.gov/ttn/naaqs/ prior to the workshop.

Finally, EPA will shortly announce a meeting of the Clean Air Scientific Advisory Committee (CASAC) on the afternoon of June 29, 2006, also in Research Triangle Park, North Carolina. That public meeting will also focus on the NAAQS review process.

Dated: June 6, 2006.
Mary E. Henigin,
Acting Director, Office of Air Quality Planning and Standards.

Appendix 1: Background Information and Discussion Questions

The following background information and discussion questions are organized around the recommended structure for the NAAQS review process. That structure encompasses four activities: planning, science assessment, risk/exposure assessment, and policy assessment/rulemaking. Each of these sections is followed by a short set of questions designed to facilitate the discussion at the public workshop. As discussed below, the basic structural changes that the Agency is starting to incorporate into NAAQS reviews include combining separate planning activities into one integrated plan that focuses on policy-relevant issues; restructuring the Air Quality Criteria Document into a more concise science assessment document; preparing more concise risk/exposure assessment documents with an enhanced focus on characterizing uncertainties; and, to the extent that these changes are implemented, replacing the Staff Paper as currently structured with a more narrowly-focused policy assessment document.

NAAQS Review Plan: As recommended in the workgroup report, the Agency plans to combine the current separate planning activities into the preparation of one integrated planning document that focuses the science, risk/exposure, and policy assessments on a set of policy-relevant issues, reflecting significant uncertainties and gaps in knowledge identified at the end of the last review. This plan would include criteria for identifying key policy-relevant studies and for assessing the weight of the evidence for important scientific issues. This plan would also include a schedule for the review that maximizes the amount of time allotted to the science and risk/exposure assessments; that more closely links these assessments through a more coordinated, consultative process; that minimizes the time between the completion of these assessments and reaching proposed decisions on the NAAQS; and that allows for provisional assessment of “new” science, if necessary, during the rulemaking process. The preparation of such an integrated, policy-relevant plan would provide an opportunity for early involvement of EPA senior management, CASAC and/or outside parties in framing policy-relevant issues.

• What key issues can and should be addressed in a NAAQS review plan, recognizing that this plan will be developed at the beginning of the review process?

• What are your views on the role of the public and CASAC in providing input and/or review of such plans?

Science Assessment: As recommended in the workgroup report, the Agency plans to restructure the Air Quality Criteria Document into a science assessment document that is a more concise evaluation, integration, and synthesis of the most policy-relevant science (with comprehensive annexes that include more detailed descriptive information), and to include key science judgments that are integral to the risk/exposure assessments. This document should include a presentation of the synthesis of policy-relevant science not only for a scientific audience, but also in language that will be understood and meaningful to policy makers, perhaps in the form of a “plain-English” executive summary.

• What types of scientific judgments are integral to conducting risk/exposure assessments and to what extent do you think those judgments are best made in the science assessment?

• What are your views on the projected timeline for developing the risk/exposure assessment methodologies concurrent with the preparation of the first draft science assessment, and for conducting the first phase risk/exposure assessment (projecting risk/exposure associated with recent air quality and with “just attaining” the current standards) concurrent with the preparation of the second draft science assessment?

The workgroup report recommended the development and implementation of a continuous process to identify, compile, characterize, and prioritize new scientific studies with the assistance of state-of-the-art electronic databases. The Agency recognizes that the development of such a system is complex and potentially resource-intensive, and believes that additional time is needed to explore various approaches, options, and resource requirements for its development. Further, the Agency has concluded that consideration of the extent to which such a system would facilitate a survey of “new” science during the NAAQS rulemaking and/or preparation of more frequent periodic updates should be done in conjunction with efforts to develop such a system.

• What are your views on how best to provide for a more continuous process of identifying, compiling, characterizing, and prioritizing new scientific studies that does not begin and end with the preparation of each science assessment done as part of periodic NAAQS reviews?

• To what extent would it be practical and/or useful for such a continuous process to have a multi-pollutant focus rather than focusing on each pollutant separately?

• Can you suggest any examples that the Agency might consider in designing and implementing such a process?

• When and how could assessment of “new” science appropriately be performed and used during the NAAQS rulemaking process?

Risk/Exposure Assessment: As recommended in the workgroup report, the Agency plans to develop a more concise risk/exposure assessment document focused on key results, observations, and uncertainties (similar to the risk/exposure chapter(s) that are now included in Staff Papers). This document would be supported with comprehensive annexes that include all relevant background information, assumptions, results, and assessments of variability and uncertainty to ensure the transparency of the assessment (similar to the information now included in contractor technical support documents currently reviewed by the CASAC and public). The Agency plans to work with the Science Advisory Board Staff Office to consider the formation of a CASAC subcommittee on risk/exposure assessments, when appropriate, to provide more focused feedback and advice on planning these assessments, including input on the methodology used and the characterization of uncertainties.

• What are your views on CASAC's role in providing more focused feedback and advice on the risk/exposure assessments?

Policy Assessment/Rulemaking: As recommended in the workgroup report, the Agency plans to replace the Staff Paper as currently structured with a more narrowly focused policy assessment document to the extent that the changes discussed above are adopted and effectively implemented. This document would be based on the information contained in the science and risk/exposure assessments, and would also include the results of policy-relevant air quality analyses. This document would focus on identification of a set of evidence- and risk-based approaches for reaching policy judgments; consideration of the adequacy of the current standards and whether alternative standards should be assessed for consideration; and identification of a range of options for alternative standards (in terms of indicators, averaging times, forms, and ranges of levels) that might be considered by the Administrator in making policy choices.

• What steps can be taken to ensure that the roles previously played by the Staff Paper are effectively addressed in the science assessment, risk/exposure assessment, and the policy assessment?

• What are your views on whether and how your ability to comment on the policy assessment would be affected by having an opportunity to review just one draft of the policy assessment, as envisioned in the recommended timeline?

In their transmittal memorandum, Mr. Wehrum and Dr. Gray have additionally concluded that it is appropriate for the final policy assessment to reflect the Agency's views, consistent with EPA practice in other rulemakings. They also recommended that further consideration be given to publishing the policy assessment through an advance notice of proposed rulemaking (ANPR) that solicits review and comment from CASAC and the public. Comments received on an ANPR would be taken into consideration in developing the proposal notice, although unlike the process of preparing both a draft and final assessment document that addresses such comments prior to the preparation of a proposal notice, the use of an ANPR may eliminate the preparation of a “final” policy assessment.

• To what extent, if at all, do you think that it would affect your comments if the draft and/or final policy assessment reflects Agency rather than staff views?

• To what extent, if at all, do you think it would affect your opportunity to provide comments if the policy assessment were to be published in conjunction with an advance notice of proposed rulemaking rather than in the form of both a draft and final assessment document?

Finally, the following questions concern more general issues regarding the NAAQS review process:

• The generic NAAQS review timeline presented in the workgroup report is intended to maximize the time allotted to conducting the science and risk/exposure assessments within a 5-year review cycle, and to reach proposed decisions as close in time to the completion of the science and risk/exposure assessments as possible. As a general matter, what are your views on these goals?

• To what extent do you feel that the relative amount of time allotted to each activity in the generic timeline, and the degree to which certain activities are projected to be done concurrently, is appropriate?

• To what extent do you believe that the recommended generic timeline provides adequate and appropriate opportunities for CASAC and the public to participate in the NAAQS review process?

[FR Doc. E6-9043 Filed 6-9-06; 8:45 am]

BILLING CODE 6560-50-P